DEPARTMENT OF EDUCATION

[Docket No.: ED-2024-SCC-0075]

Agency Information Collection Activities; Submission to the Office of Management and Budget for Review and Approval; Comment Request; Providing Reading Interventions for Students in Middle School Toolkit Evaluation

AGENCY: Institute of Education Sciences (IES), Department of Education (ED).

ACTION: Notice.

SUMMARY: In accordance with the Paperwork Reduction Act (PRA) of 1995, the Department is proposing a new information collection request (ICR).

DATES: Interested persons are invited to submit comments on or before September 9, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Anousheh Shayestehpour, (202) 987-1148.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Providing Reading Interventions for Students in Middle School Toolkit Evaluation.

OMB Control Number: 1850-NEW.

Type of Review: New ICR.

Respondents/Affected Public: Individuals or Households.

Total Estimated Number of Annual Responses: 2,647.

Total Estimated Number of Annual Burden Hours: 851.

Abstract: The current authorization for the Regional Educational Laboratories (REL) program is under the Education Sciences Reform Act of 2002, Part D, Section 174, (20 U.S.C. 9564), administered by the Department of Education, Institute of Education Sciences (IES), National Center for Education Evaluation and Regional Assistance (NCEE). The central mission and primary function of the RELs is to support applied research and provide technical assistance to state and local education agencies within their region (ESRA, Part D, section 174[f]). The REL program's goal is to partner with educators and policymakers to conduct work that is change-oriented and supports meaningful local, regional, or state decisions about education policies, programs, and practices to improve outcomes for students.

Grades 6-8 mark an extended and crucial period in which students are expected to master increasingly complex literacy skills (Biancarosa & Snow, 2006; Hagaman et al., 2016). By the middle school grades, reading instruction typically shifts from a focus on fundamental literacy skills, such as decoding and phonemic awareness, to genre-specific textual conventions, comprehension strategies, and learning curricular content from texts (Chall, 1983; Goldman & Snow, 2015). For students without the fundamental skills to read fluently, decode accurately, and comprehend text, the more advanced literacy practices needed for secondary content acquisition and text reading can be out of reach. Students who struggle with reading at the middle school level often have limited ability to access curricular content aligned to grade-level standards in English language arts and other subject areas (Torgesen et al., 2007) and may experience adverse educational outcomes with respect to attendance (Fisher & Frey, 2014), graduation rates (Daniel et al., 2006), and mental health (Daniel et al., 2006; Mugnaini et al., 2009).

The purpose of this evaluation is to test the efficacy of the Providing Reading Interventions for Students in Middle School Toolkit, or the PRISMS Toolkit. This toolkit supports the application of evidence-based recommendations from the What Works Clearinghouse (WWC) Providing Reading Interventions for Students in Grades 4-9 Educator's Practice Guide (hereafter, practice guide; Vaughn et al., 2022) through a suite of professional development activities. We anticipate that the toolkit will impact teacher knowledge, self-efficacy, and instructional practice. These changes in teacher knowledge, beliefs, and practice, in turn, will positively impact student outcomes, including student engagement, as measured by student engagement in reading and school attendance, and reading proficiency.

The evaluation team plans to conduct an independent evaluation using a school-level, cluster randomized control trial design to assess the program's impact on teachers' practices and beliefs and students' engagement and literacy outcomes. The evaluation will also assess the implementation of the toolkit and how it may be effectively scaled. The evaluation will take place in 52 schools across an estimated 10 districts in Texas and will focus on teachers and students in grade 6-8. The evaluation will produce a report and presentations to study participants, practitioners, policymakers, and researchers, and infographics and blog posts for a wider audience of educators and policymakers. These will be designed to inform district and school leaders and teachers about reading interventions that could be beneficial for all students in grade 6-8, but particularly those who are reading below grade level expectations.

Dated: August 5, 2024.
Juliana Pearson,
PRA Coordinator, Strategic Collections and Clearance, Governance and Strategy Division, Office of Chief Data Officer, Office of Planning, Evaluation and Policy Development.

[FR Doc. 2024-17624 Filed 8-7-24; 8:45 am]

BILLING CODE 4000-01-P